DEPARTMENT OF THE INTERIOR

Bureau of Ocean Energy Management

Carpinteria Offshore Field Redevelopment Project—Developmental Drilling Into the Carpinteria Offshore Field Oil and Gas Reserves, California State Waters, From Federal Platform Hogan

AGENCY: Bureau of Ocean Energy Management, Interior.

ACTION: Notice of intent.

SUMMARY: The Bureau of Ocean Energy Management (BOEM) and the California State Lands Commission (CSLC) intend to jointly review a proposal to develop offshore oil and gas resources, located in California state waters, from an existing oil and gas platform located in Federal waters. This review will lead to a joint assessment of the potential environmental impacts and appropriate mitigation measures. This is the Notice of Preparation/Notice of Intent (NOP/NOI) to jointly prepare an Environmental Impact Report/Environmental Impact Statement (EIR/EIS) and hold public scoping meetings for the Carpinteria Offshore Field Redevelopment Project. This notice initiates the public scoping process.

DATES: Written comments must be submitted by February 21, 2012.

Scoping meeting dates/times are Thursday, January 19, 2012 at:

1. 1-3 p.m. and

2. 5-7 p.m.

ADDRESSES: Comments should be sent to—

1. Mail or hand carried. Enclosed in an envelope labeled “Scoping Comments for the Carpinteria EIR/EIS” and delivered to Ms. Susan Zaleski, Bureau of Ocean Energy Management, Pacific OCS Region, 770 Paseo Camarillo, Camarillo, CA 93010-6064.

2. Email. carpinteriaredevelopment@mrsenv.com.

See Comments and Scoping Meetings below for meeting addresses.

FOR FURTHER INFORMATION CONTACT: Ms. Susan Zaleski, Bureau of Ocean Energy Management, Pacific OCS Region, 770 Paseo Camarillo, Camarillo, California 93010-6064; phone (805) 389-7558, fax (805) 389-7874, or email at susan.zaleski@boem.gov.

SUPPLEMENTARY INFORMATION: The BOEM and CSLC are jointly reviewing the proposed Carpenteria Offshore Field Redevelopment Project (the Project) under the National Environmental Policy Act (NEPA) of 1969, as amended, and the California Environmental Quality Act (CEQA), respectively. The BOEM will be the NEPA lead agency. The California State Lands Commission (CSLC) will be the CEQA lead agency. They will prepare a joint environmental impact report (EIR)/environmental impact statement (EIS) to identify and assess potential environmental impacts and mitigation measures associated with a proposal to develop offshore oil and gas resources, located in California state waters, from an existing oil and gas platform located in Federal waters.

Publication of this notice initiates the public scoping process to solicit comments regarding the full spectrum of issues and concerns, including a suitable range of alternatives, the human and marine resources that could be affected, the nature and extent of the potential impacts to those resources, and the appropriate mitigation measures that should be addressed in the EIR/EIS.

Carone Petroleum Corporation (Carone) is proposing to redevelop the state portion of the Carpinteria Offshore Field oil and gas reserves from Platform Hogan, which is located in Federal waters. Signal Hill Services, Inc. is the Federal lessee, and Pacific Operators Offshore, LLC (POOL) is the operator of Platform Hogan. The Carpinteria Offshore Field extends into both Federal and state waters and includes Federal and state leases. As many as 25 new production or injection wells would be drilled into existing state oil and gas leases from Platform Hogan. The exact number of wells to be drilled is unknown until sufficient wells are completed and evaluated to determine the amount and location of the oil and gas resources.

The CSLC reviews the Plan of Development (POD) for state leases, which delineates the long-term plans of Carone and its designated Carpinteria Field operator, POOL. The POD is based on all state lease wells being physically drilled from Platform Hogan through subsurface operations.

The BOEM reviews the Development and Production Plan (DPP) and revised DPP pursuant to the Outer Continental Shelf (OCS) Lands Act, as amended, and the implementing regulations at 30 Code of Federal Regulations (CFR) 550.283 and 550.285, which address the procedures and requirements for submitting revised DPPs. The BOEM decides whether these revised plans should be approved, disapproved, or modified to be consistent with the provisions of the lease, the OCS Lands Act, and the implementing regulations. A Right-of-Use-and-Easement is also needed for this proposed project pursuant to 30 CFR 550.160-166. The revised DPP will also be submitted to the California Coastal Commission (CCC) to ensure its consistency with the California Coastal Management Plan.

No final decision on the proposed project will be made until the end of the EIR/EIS process in order to allow for full consultation with Federal agencies, affected states, affected tribes and the public. Upon completion of this EIR/EIS process, BOEM and CSLC will make separate decisions concerning the proposed project. Consultation with other Federal, state and local agencies, affected tribes, and the public will be carried out to assist in the NEPA/CEQA process. These consultations will be completed before decisions are made on the proposed project.

Description of the Area

Drilling will take place from an existing Federal Platform Hogan (Federal Lease OCS-P 0166), which lies in the Santa Barbara Channel, 3.7 miles offshore of the City of Carpinteria, Santa Barbara County, California, in 154 feet of water (Latitude 34°20′16″ N; Longitude 119°32′30″ W) to develop resources in California state waters (State Oil and Gas Leases PRC 4000, PRC 7911 and PRC 3133). Oil and gas production will be transferred by an existing pipeline to the existing La Conchita Processing Facility in Ventura County.

Cooperating Agencies

BOEM and CSLC invite other Federal agencies and state, tribal and local governments to consider becoming cooperating agencies in the preparation of the EIR/EIS. Following the guidelines from the Council of Environmental Quality (CEQ), qualified agencies and governments are those with “jurisdiction by law or special expertise.” Potential cooperating agencies should consider their authority and capacity to assume the responsibilities of a cooperating agency and remember that an agency's role in the environmental analysis neither enlarges nor diminishes the final decision-making authority of any other agency involved in the NEPA process.

Upon request, BOEM and CSLC will provide potential cooperating agencies with an information package that includes a draft Memorandum of Agreement. The draft Memorandum of Agreement includes a schedule with critical action dates and milestones, mutual responsibilities, designated points of contact, and expectations for handling predecisional information. Agencies should also consider the “Factors for Determining Cooperating Agency Status” in Attachment 1 to CEQ's January 30, 2002, Memorandum for the Heads of Federal Agencies: Cooperating Agencies in Implementing the Procedural Requirements of the National Environmental Policy Act. These documents are available at http://ceq.hss.doe.gov/nepa/regs/guidance.html. BOEM/CSLC, as the lead agencies, will not provide financial assistance to cooperating agencies. Even if an organization is not a cooperating agency, opportunities will exist to provide information and comments to BOEM/CSLC during the normal public input phases of the NEPA/EIS and CEQA/EIR processes. If further information about cooperating agency status is needed, please contact Ms. Susan Zaleski at (805) 389-7558 or susan.zaleski@boem.gov.

Comments and Scoping Meetings

Scoping is an open process used for identifying significant environmental issues related to the proposed project. Scoping also provides an opportunity to identify appropriate mitigation measures and alternatives to the proposed project. Applicable agencies will need to use the EIR/EIS when considering related permits or other approvals for the proposed project.

Federal, state and local government agencies and other interested parties are requested to send their written comments on the scope of the EIR/EIS, significant issues that should be addressed and alternatives that should be considered to one of the addresses in the ADDRESSES section above.

Before including your address, telephone number, email address, or other personal identifying information in your comment, you should be aware that your entire comment, including your personal identifying information, may be made publicly available at any time (including in the EIR/EIS and posted on the Internet). Please note that requests to withhold personal identifying information should be made prominently at the beginning of your submission. While you may ask BOEM to withhold your personal identifying information from public review, BOEM cannot guarantee that it will be able to do so. The BOEM will not consider anonymous comments, and BOEM will make available for inspection, in their entirety, all comments submitted by organizations or businesses or by individuals identifying themselves as representatives of organizations or businesses.

This notice and detailed proposed project information will also be available on the BOEM web page at http://www.boem.gov/Carpinteria.aspx and on the CSLC web page at www.slc.ca.gov.

BOEM and CSLC will hold scoping meetings to obtain additional comments and information regarding the scope of the EIR/EIS. Two public scoping meetings will be conducted for the proposed project to receive oral and/or written testimony at the following times and place: Thursday, January 19, 2012, 1-3 p.m. and 5-7 p.m., Carpinteria City Council Chambers, 5775 Carpinteria Avenue, Carpinteria, California 93013-2697, Phone: (805) 684-5405.

A sign language interpreter will be provided upon advance notification of need. Such notification should be made as soon as possible prior to the date of the scoping meetings. If you need reasonable accommodation for a disability, as defined by the Federal Americans with Disabilities Act and the California Fair Employment and Housing Act, to conduct business with BOEM and CSLC staff conducting the scoping meetings, please contact Susan Zaleski at (805) 389-7558 at least 7 days in advance of the scoping meetings to arrange for such accommodation.

Authority: 40 CFR 1501.7, 42 U.S.C. 4321 et seq. (1988), and § 15802 of the California Environmental Quality Act (CEQA) Guidelines (Cal. Code Regs., tit. 14, § 15000 et seq.).

Dated: December 14, 2011.
Tommy P. Beaudreau,
Director, Bureau of Ocean Energy Management .

[FR Doc. 2011-32484 Filed 12-19-11; 8:45 am]

BILLING CODE 4310-MR-P